DEPARTMENT OF ENERGY

Notice of Class Deviation Approval

AGENCY: National Energy Technology Laboratory, Department of Energy.

ACTION: Notice of class deviation approval.

SUMMARY: This notice announces the approval of a Class Deviation to the regulations at 10 CFR part 600. The Department is publicizing notice of the Class Deviation approval to satisfy the requirements of 10 CFR 600.4(d). The effect of this action is that the Department may require the submission of monthly performance reports on projects selected under the Clean Coal Power Initiative—Round 3 Funding Opportunity Announcement.

FOR FURTHER INFORMATION CONTACT: Brittley Robbins at (412) 386-5430.

SUPPLEMENTARY INFORMATION: Under the relevant Subparts of the Department of Energy's Financial Assistance Regulations, which prescribe performance reporting, 10 CFR 600.151, 240, and 341, reporting shall not be required more frequently than quarterly or less frequently than annually. For projects selected under the Clean Coal Power Initiative—Round 3 (CCPI-3) Funding Opportunity Announcement, the Department determined that quarterly reporting was insufficient to adequately monitor progress and assess risk as they do not provide current information, and do not allow the Department to identify and address problems in a timely manner. Projects selected under the CCPI-3 Announcement will be commercial scale demonstration projects which are inherently complex, integrating novel carbon capture technology into commercial operations of a coal-fired power generation facility, which will in turn be integrated with a large-scale sequestration facility. All demonstration projects under the Clean Coal Power Initiative Program carry an inherent degree of risk because they incorporate innovative technology, either being introduced for the first time or in an untried configuration at the commercial scale.

To ensure that cooperative agreements awarded under the Clean Coal Power Initiative—Round 3 Funding Opportunity Announcement meet their objectives on schedule and within budget, the Department pursued a Class Deviation from the regulations at 10 CFR 600.151, 240, and 341 to allow for monthly performance reporting.

On April 8, 2008, the Office of Management and Budget approved the Department's request for the Class Deviation.

Issued in Pittsburgh, PA on September 10, 2009.
Raymond D. Johnson,
Contracting Officer.

[FR Doc. E9-22385 Filed 9-16-09; 8:45 am]

BILLING CODE 6450-01-P